Title 3—

The President

Executive Order 13273 of August 21, 2002

Further Amending Executive Order 10173, as Amended, Prescribing Regulations Relating to the Safeguarding of Vessels, Harbors, Ports, and Waterfront Facilities of the United States

By the authority vested in me as President by the Constitution and the laws of the United States of America, including section 1 of title II of the Act of June 15, 1917, as amended (50 U.S.C. 191) (the “Act”), and in addition to the finding in Executive Order 10173 of October 18, 1950, and any other declaration or finding in force under section 1 of the Act, I find that the security of the United States is endangered by reason of disturbances in the international relations of the United States that have existed since the terrorist attacks on the United States of September 11, 2001, and that such disturbances continue to endanger such relations, and hereby order that:

Part 6 of Title 33 of the Code of Federal Regulations is amended by:

(a) Adding after section 6.01-5 the following new section:

“6.01-6 Area Commander. “Area Commander,” as used in this part, means the officer of the Coast Guard designated by the Commandant to command a Coast Guard Area.”; and

(b) Amending section 6.04-1 to read as follows:

“6.04-1 Enforcement. (a) The rules and regulations in this part shall be enforced by the Captain of the Port under the supervision and general direction of the District Commander, Area Commander, and the Commandant. All authority and power vested in the Captain of the Port by the regulations in this part shall be deemed vested in and may be exercised by the District Commander, Area Commander, and the Commandant.

(b) The rules and regulations in this part may be enforced by any other officer or petty officer of the Coast Guard designated by the District Commander, Area Commander, or the Commandant.

(c) Any authority or power under this part vested in, delegated to, or exercised by a member of the Coast Guard shall be subject to the direction of the Secretary of the Department in which the Coast Guard is operating.”.

B

THE WHITE HOUSE,

August 21, 2002.

[FR Doc. 02-22526

Filed 8-30-02; 8:45 am]

Billing code 3195-01-P